DEPARTMENT OF TRANSPORTATION

Federal Aviation Administration

14 CFR Part 71

[Airspace Docket No. 00-AWA-2]

RIN 2120-AA66

Proposed Revision to the Legal Description of the Shaw Air Force Base Class C Airspace Area; SC

AGENCY: Federal Aviation Administration (FAA), DOT.

ACTION: Notice of proposed rulemaking (NPRM).

SUMMARY: The FAA proposes to revise the legal description of the Shaw Air Force Base (AFB), SC, Class C airspace area by changing the hours of area operation to be consistent with current operational requirements. In this proposed revision, the Class C airspace area would be designated effective during the specific days and hours of operation of the Shaw AFB Airport Traffic Control Tower (ATCT) as established in advance by a Notice to Airmen (NOTAM). The effective days and times would thereafter be continuously published in the Airport/Facility Directory. This proposed action would not change the actual dimensions, configuration, or operating requirements of the Shaw AFB Class C airspace area.

DATES: Comments must be received on or before June 8, 2000.

ADDRESSES: Send comments on the proposal in triplicate to the Federal Aviation Administration, Office of the Chief Counsel, Attention: Rules Docket, AGC-200, Airspace Docket No. 00-AWA-2, 800 Independence Avenue, SW., Washington, DC 20591. Comments may also be sent electronically to the following Internet address: nprmcmts@mail.hq.faa.gov. The official docket may be examined in the Rules Docket, Office of the Chief Counsel, Room 916, weekdays, except Federal holidays, between 8:30 a.m. and 5:00 p.m. An informal docket may also be examined during normal business hours at the office of the Regional Air Traffic Division.

FOR FURTHER INFORMATION CONTACT: Paul Gallant, Airspace and Rules Division, ATA-400, Office of Air Traffic Airspace Management, Federal Aviation Administration, 800 Independence Avenue, SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify the airspace docket number and be submitted in triplicate to the address listed above. Commenters wishing the FAA to acknowledge receipt of their comments on this action must submit with those comments a self-addressed, stamped postcard on which the following statement is made: “Comments to Airspace Docket No. 00-AWA-2.” The postcard will be date/time stamped and returned to the commenter. All communications received on or before the specified closing date for comments will be considered before taking action on the proposed rule. The proposal contained in this action may be changed in light of comments received. All comments submitted will be available for examination in the Rules Docket both before and after the closing date for comments. A report summarizing each substantive public contact with FAA personnel concerned with this rulemaking will be filed in the docket.

Availability of NPRM's

An electronic copy of this document may be downloaded from the FAA regulations section of the Fedworld electronic bulletin board service (telephone: 703-321-3339) or the Federal Register's electronic bulletin board service (telephone: 202-512-1661), using a modem and suitable communications software.

Internet users may reach the FAA's web page at http://www.faa.gov or the Federal Register's web page at http://www.access.gpo.gov/nara for access to recently published rulemaking documents.

Any person may obtain a copy of this NPRM by submitting a request to the Federal Aviation Administration, Office of Air Traffic Airspace Management, Attention: Airspace and Rules Division, ATA-400, 800 Independence Avenue, SW., Washington, DC 20591, or by calling (202) 267-3075. Communications must identify the docket number of this NPRM. Persons interested in being placed on a mailing list for future NPRM's should contact the Federal Aviation Administration, Office of Rulemaking, (202) 267-9677, to request a copy of Advisory Circular No. 11-2A, which describes the application procedure.

Background

The Shaw AFB ATCT has reduced its hours of operation. Therefore, there is a need to revise the effective times published for the Shaw AFB Class C airspace area to coincide with those times that Class C air traffic control services are available. The Shaw AFB Class C airspace area remains an essential safety measure in support of the ongoing airport operational requirements.

The Proposal

The FAA proposes to amend 14 CFR part 71 by revising the legal description of the Shaw AFB Class C airspace area located at Shaw AFB, SC. The FAA proposes to revise the hours of operation for the Class C airspace area to align them with current airfield operations. It is proposed that the Shaw AFB Class C airspace area would be designated effective during the specific days and hours of operation of the Shaw AFB ATCT as established in advance by NOTAM. The proposed action is a technical amendment to the legal description and would not change the actual dimensions, configuration, or operating requirements of the Shaw AFB Class C airspace area. During the times that Shaw ATCT is not operational, the airspace reverts to Class E airspace since one of the requirements for Class C airspace is an operational ATCT. The radar approach control operating hours remain unchanged. Jacksonville Center assumes the airspace when Shaw radar approach control closes.

The FAA has determined that this regulation only involves an established body of technical regulations for which frequent and routine amendments are necessary to keep them operationally current. Therefore, this proposed action: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The coordinates for this airspace docket are based on North American Datum 83. Class C airspace designations are published in paragraph 4000 of FAA Order 7400.9G, dated September 1, 1999, and effective September 16, 1999, which is incorporated by reference in 14 CFR 71.1. The Class C airspace designation listed in this document would be published subsequently in the Order.

List of Subjects in 14 CFR Part 71

Airspace, Incorporation by reference, Navigation (air).

The Proposed Amendment

In consideration of the foregoing, the Federal Aviation Administration proposes to amend 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9G, Airspace Designations and Reporting Points, dated September 1, 1999, and effective September 16, 1999, is amended as follows:

Paragraph 4000—Subpart C—Class C Airspace

* * * * *

Shaw AFB, SC [Revised]

Shaw AFB, SC

(lat. 33°58′23″ N., long. 80°28′22″ W.)

Sumter Municipal Airport

(lat. 33°59′42″ N., long. 80°21′40″ W.)

That airspace extending upward from the surface to and including 4,200 feet MSL within a 5-mile radius of the Shaw AFB, excluding that airspace below 1,500 feet MSL within a 2-mile radius of the Sumter Municipal Airport; and that airspace extending upward from 1,500 feet MSL to and including 4,200 feet MSL within a 10-mile radius of Shaw AFB; excluding that airspace contained within Restricted Area R-6002 when it is in use. This Class C airspace area is effective during the specific dates and times established in advance by a Notice to Airmen. The effective date and time will thereafter be continuously published in the Airport/Facility Directory.

* * * * *

Issued in Washington, DC, on April 17, 2000.
Reginald C. Matthews,
Manager, Airspace and Rules Division.

[FR Doc. 00-10214 Filed 4-24-00; 8:45 am]

BILLING CODE 4910-13-P